DEPARTMENT OF LABOR

Employment and Training Administration

[TA-W-50,435 and TA-W-50,435A]

Foster Wheeler Energy Corporation, a Subsidiary Of Foster Wheeler Corporation, Now Known as Foster Wheeler North America, Inc., Dansville, NY, and Foster Wheeler Power Group, a Subsidiary of Foster Wheeler Corporation, Now Known as Foster Wheeler North America, Inc., Stuart, FL; Amended Certification Regarding Eligibility To Apply for Worker Adjustment Assistance

In accordance with section 223 of the Trade Act of 1974 (19 U.S.C. 2273) the Department of Labor issued a Certification of Eligibility to Apply for Worker Adjustment Assistance on February 21, 2003, applicable to workers of Foster Wheeler Energy Corporation, a subsidiary of Foster Wheeler Corporation, Dansville, New York. The notice was published in the Federal Register on March 10, 2003 (68 FR 11410).

At the request of the State agency, the Department reviewed the certification for workers of the subject firm. The workers were engaged in the production of boilers and boiler parts.

New findings show that a worker was separated at the Foster Wheeler Power Group, Inc., Stuart, Florida. This employee provided support function services for the production of boilers and boiler parts produced at the Dansville, New York location of the subject firm.

Accordingly, the Department is amending the certification to include an employee of Foster Wheeler Power Group, Inc., a subsidiary of Foster Wheeler Corporation, now known as Foster Wheeler North America, Inc., Stuart, Florida. The intent of the Department's certification is to include all workers of Foster Wheeler Energy Corporation, a subsidiary of Foster Wheeler Corporation, now known as Foster Wheeler North America, Inc., who were adversely affected by a shift in production to China.

The amended notice applicable to TA-W-50,435 is hereby issued as follows:

All workers of Foster Wheeler Energy Corporation a subsidiary of Foster Wheeler Corporation, now known as Foster Wheeler North America, Inc., Dansville, New York (TA-W-50,435) and Foster Wheeler Power Group, Inc., a subsidiary of Foster Wheeler Corporation, now known as Foster Wheeler North America, Inc., Stuart, Florida (TA-W-50,435A), who became totally or partially separated from employment on or after December 20, 2001, through February 21, 2005, are eligible to apply for adjustment assistance under section 223 of the Trade Act of 1974.

Signed in Washington, DC, this 19th day of April, 2004.
Linda G. Poole,
Certifying Officer, Division of Trade Adjustment Assistance.

[FR Doc. E4-966 Filed 4-29-04; 8:45 am]

BILLING CODE 4510-13-P